FEDERAL MARITIME COMMISSION

Notice of Agreements Filed

The Commission hereby gives notice of filing of the following agreements under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreement are available through the Commission's website (www.fmc.gov) or by contacting the Office of General Counsel at (202)-523-5740 or GeneralCounsel@fmc.gov.

Agreement No.: 201349-005.

Agreement Name: World Shipping Council Agreement.

Parties: COSCO Shipping Lines Co., Ltd., Orient Overseas Container Line Ltd., and OOCL (Europe) Limited (acting as a single party); CMA CGM S.A., APL Co. Pte. Ltd., American President Lines, LLC and ANL Singapore Pte Ltd. (acting as a single party); Crowley Caribbean Services, LLC and Crowley Latin America Services, LLC (acting as a single party); Evergreen Marine Corporation (Taiwan) Ltd.; Hapag-Lloyd AG; HMM Company Limited; Independent Container Line, Ltd.; Kawasaki Kisen Kaisha Ltd., Maersk A/S and Hamburg Sud (acting as a single party); Matson Navigation Company, Inc.; MSC Mediterranean Shipping Company SA; Mitsui O.S.K. Lines Ltd.; Nippon Yusen Kaisha; Ocean Network Express Pte. Ltd.; Swire Shipping, Pte. Ltd.; Wallenius Wilhelmsen Ocean AS; Wan Hai Lines Ltd. and Wan Hai Lines (Singapore) Pte Ltd. (acting as a single party); Yang Ming Marine Transport Corp.; and Zim Integrated Shipping Services, Ltd.

Filing Party: Robert Magovern, Cozen O'Connor.

Synopsis: The Amendment would add Emirates Shipping Line FZE as a party to the Agreement.

Proposed Effective Date: 9/15/2025.

Location: https://www2.fmc.gov/FMC.Agreements.Web/Public/AgreementHistory/34503.

Agreement No.: 201457.

Agreement Name: SM Line/Sealead Shipping Slot Exchange Agreement for Empty Containers.

Parties: Sealead Shipping Pte. Ltd.; and SM Line Corporation.

Filing Party: Rebecca Fenneman, Jeffrey/Fenneman Law and Strategy PLLC.

Synopsis: The Agreement authorizes the Parties to exchange slots for the carriage of empty containers in the trades in which they respectively operate, other than the service lanes in which they operate jointly.

Proposed Effective Date: 8/1/2025.

Location: https://www2.fmc.gov/FMC.Agreements.Web/Public/AgreementHistory/89628.

Dated: August 8, 2025.
David Eng,
Secretary.

[FR Doc. 2025-15291 Filed 8-11-25; 8:45 am]

BILLING CODE 6730-02-P